SECURITIES AND EXCHANGE COMMISSION

Proposed Collection; Comment Request

Upon written request, copies available from: Securities and Exchange Commission, Office of Investor Education and Advocacy, Washington, DC 20549-0213.

Extension: Form F-10; OMB Control No. 3235-0380; SEC File No. 270-334.

Notice is hereby given that pursuant to the Paperwork Reduction Act of 1995 (44 U.S.C. 3501 et seq.) the Securities and Exchange Commission (“Commission”) is soliciting comments on the collection of information summarized below. The Commission plans to submit this existing collection of information to the Office of Management Budget for extension and approval.

Form F-10 (17 CFR 239.40) is a registration statement under the Securities Act of 1933 (15 U.S.C. 77a et seq.) that is used by certain Canadian “substantial issuers” (those issuers with at least 36 calendar months of reporting history with a securities commission in Canada and a market value of common stock of at least C$360 million and an aggregate market value of common stock held by non-affiliates of at least C$75 million). The purpose of the information collection is to facilitate cross-border offerings by specified Canadian issuers. We estimate that Form F-10 takes 25 hours per response and is filed by 75 respondents. We further estimate that 25% of the 25 hours per response (6.25 hours) is prepared by the issuer for an annual reporting burden of 469 hours (6.25 hours per response × 78 responses).

Written comments are invited on: (a) Whether this proposed collections of information is necessary for the proper performance of the functions of the agency, including whether the information will have practical utility; (b) the accuracy of the agency's estimate of the burden imposed by the collection of information; (c) ways to enhance the quality, utility, and clarity of the information collected; and (d) ways to minimize the burden of the collection of information on respondents, including through the use of automated collection techniques or other forms of information technology. Consideration will be given to comments and suggestions submitted in writing within 60 days of this publication.

Please direct your written comments to Charles Boucher, Director/CIO, Securities and Exchange Commission, C/O Shirley Martinson, 6432 General Green Way, Alexandria, Virginia 22312; or send an e-mail to: PRA_Mailbox@sec.gov.

Dated: February 23, 2009.
Florence E. Harmon,
Deputy Secretary.

[FR Doc. E9-4185 Filed 2-26-09; 8:45 am]

BILLING CODE 8011-01-P